DEPARTMENT OF LABOR

Employment and Training Administration

[TA-W-54,485]

Burlington Industries, Hurt, VA; Notice of Termination of Investigation

Pursuant to section 221 of the Trade Act of 1974, as amended, an investigation was initiated on March 12, 2004, in response to a petition filed by a company official on behalf of workers at Burlington Industries, Hurt, Virginia.

The petitioner has requested that the petition be withdrawn. Consequently, the investigation has been terminated.

Signed in Washington, DC this 5th day of April, 2004.
Richard Church,
Certifying Officer, Division of Trade Adjustment Assistance.

[FR Doc. E4-1010 Filed 5-3-04; 8:45 am]

BILLING CODE 4510-13-P